DEPARTMENT OF AGRICULTURE

Animal and Plant Health Inspection Service

[Docket 03-074-1]

International Plant Protection Convention Draft Standard on the Plant Pest Risks Associated with Living Modified Organisms; Public Meeting

AGENCY: Animal and Plant Health Inspection Service, USDA.

ACTION: Notice of public meeting.

SUMMARY: We are giving notice of a public meeting to solicit comments on a draft international standard concerning the plant pest risks associated with living modified organisms.

DATES: The public meeting will be held on September 18, 2003, from 1 to 3 p.m.

ADDRESSES: The meeting will be held at the USDA Center at Riverside, 4700 River Road, Riverdale, MD, in Conference Rooms C and D.

FOR FURTHER INFORMATION CONTACT: Dr. Terri Dunahay, Director for International Biotechnology Policy, BRS, APHIS, 4700 River Road Unit 146, Riverdale, MD 20737-1236; phone (301) 734-4308, fax (301) 734-8669, e-mail: terri.g.dunahay@aphis.usda.gov.

For further information on APHIS's participation in international standard-setting activities, contact Mr. Narcy Klag, Manager, International Standards Management, PIM, PPQ, APHIS, 4700 River Road Unit 60, Riverdale, MD 20737-1236; (301) 734-8469, e-mail: narcy.g.klag@aphis.usda.gov.

SUPPLEMENTARY INFORMATION: The International Plant Protection Convention (IPPC) is recognized as the standard-setting body for international phytosanitary (plant health) issues by the World Trade Organization. In April 2001, the IPPC's Interim Commission on Phytosanitary Measures (ICPM) recommended that an international standard be developed to address potential plant pest risks associated with living modified organisms (LMOs). An expert working group was established to develop detailed specifications for the standard. The decision to develop an international standard was the result of requests from IPPC member countries for guidance from the IPPC on evaluating potential phytosanitary issues that may be associated with LMOs.

APHIS has held two public meetings regarding the development of an LMO standard in the IPPC. The need for a standard was discussed at a public meeting announced in the Federal Register on February 20, 2001 (66 FR 10874, Docket No. 01-012-1), and held on March 8, 2001. At the second public meeting, which was announced in the Federal Register on July 27, 2001 (66 FR 39136, Docket No. 01-061-1), and held on August 23, 2001, we solicited public comments on the development of specifications for the LMO standard. The transcripts of both meetings are available on the Internet at http://www.aphis.usda.gov/ppq/pim/standards/draft_standard_&_discussion_for_review.htm.

The specifications for the standard were adopted at the ICPM-4 meeting in March 2002. The United States supported the development of a stand-alone risk analysis standard for LMOs, but the decision at ICPM-4 was to draft the LMO standard as a supplement to an existing IPPC standard, International Standard for Phytosanitary Measures (ISPM) No. 11, “Pest Risk Analysis for Quarantine Pests.” The specifications describe the scope of the standard as guidance on how to assess the phytosanitary risks that could be presented by LMOs, and charge the working group with the following tasks:

• Consider existing pest risk analysis procedures and IPPC and other relevant standards;

• Identify relevant hazards and methods for the evaluation of the potential phytosanitary risks presented by LMOs;

• Formulate a draft supplement to ISPM No. 11 providing guidance on the conduct of pest risk analyses for LMOs consistent with relevant aspects of the Cartagena Protocol, taking account of Annex III of the Cartagena Protocol and September 2001 statements from the Open Ended Working Group, as amended by ICPM-4; and

• Maintain a clear and easily understood standard, and provide comprehensive guidance on pest risk analysis for LMOs.

The working group, consisting of seven experts, one from each FAO region plus representation from the Convention on Biological Diversity, the Global Invasive Species Program, and Canada (as host) met in September 2002 to draft the standard. The draft standard was reviewed by the Standards Committee in May 2003 and posted for country consultation in June 2003. The draft standard and guidelines for submitting comments are available on the Internet at http://www.aphis.usda.gov/ppq/pim/standards/draft_standards_4_comment.htm. Comments should be submitted to Mr. Narcy Klag on or before September 22, 2003 (see FOR FURTHER INFORMATION CONTACT at the beginning of this notice for Mr. Klag's postal and e-mail addresses).

We are holding this public meeting to provide a forum for the submission of comments from representatives of non-governmental organizations on the format and content of the draft standard. If you wish to speak at the meeting, please register in advance by sending an e-mail or fax to Dr. Terri Dunahay (see FOR FURTHER INFORMATION CONTACT at the beginning of this notice for Dr. Dunahay's e-mail address and fax number). Registrants should include their name, affiliation, address, and telephone number. Speakers are welcome, but not required, to submit written copies of their comments via e-mail to Dr. Dunahay. Based on the number of registered speakers, limits may be imposed on the length of each speaker's presentation. The meeting will be recorded, and information about obtaining a transcript will be provided at the meeting.

We will also provide the opportunity for interested persons to participate by teleconference. Those wishing to do so should contact Dr. Dunahay via e-mail by Friday, September 12, 2003, for phone-in information.

If you require special accommodations, such as a sign language interpreter, please contact either of the persons listed under FOR FURTHER INFORMATION CONTACT.

Parking and Security Procedures

Please note that a fee of $2.25 in exact change is required to enter the parking lot at the USDA Center at Riverside. The machine accepts $1 bills or quarters.

Upon entering the building, visitors should inform security personnel that they are attending the Living Modified Organisms public meeting. State-issued photo identification is required and all bags will be screened. Security personnel will direct visitors to the registration tables located outside of Conference Rooms C and D on the first floor. Registration upon arrival is required for all participants, including those who have registered in advance to speak. Visitor badges must be worn at all times in the building.

Further information regarding the meeting may be obtained from either of the persons listed under FOR FURTHER INFORMATION CONTACT.

Done in Washington, DC, this 15th day of August 2003.
Peter Fernandez,
Acting Administrator, Animal and Plant Health Inspection Service.

[FR Doc. 03-21421 Filed 8-20-03; 8:45 am]

BILLING CODE 3410-34-P